DEPARTMENT OF THE INTERIOR

Bureau of Land Management

[LLNMF01000.L143000000.EU0000; NMNM 122597]

Notice of Realty Action: Competitive Sale of Public Land Near Aztec in San Juan County, NM

AGENCY: Bureau of Land Management, Interior.

ACTION: Notice of realty action.

SUMMARY: The Bureau of Land Management (BLM) proposes to offer, by competitive sale, one parcel of land totaling 73.75 acres within the Aztec city limits in San Juan County, New Mexico. The sale will be subject to the applicable provisions of Section 203 of the Federal Land Policy and Management Act of 1976 (FLPMA), respectively, and BLM land sale regulations. The purpose of the sale is to dispose of lands which are difficult and uneconomic to manage. The sales will be conducted as a competitive bid auction in which interested bidders must submit written sealed bids equal to or greater than the appraised fair market value of the land. Bidders who submit written sealed bids will have the opportunity to increase their bids in a silent auction to be held after the BLM opens all written sealed bids.

DATES: Comments regarding the proposed sale must be received by the BLM on or before October 25, 2010. Sealed bids must be received no later than 3 p.m., Mountain Time on November 15, 2010. The BLM will open the sealed bids and allow supplemental bidding in a silent auction on November 15, 2010, which will be the sale date. Other deadline dates for payment are specified in the SUPPLEMENTARY INFORMATION section of this notice.

ADDRESSES: Written comments concerning the proposed sale should be sent to the Field Manager, BLM Farmington Field Office, 1235 La Plata Highway, Suite A, Farmington, New Mexico 87401. Sealed bids must also be submitted to this address. Supplemental bidding in the silent auction will be conducted at this address. Additional information including bid forms, times, and bidding procedures will be available in an Invitation for Bids available from the Farmington Field Office. More detailed information regarding the proposed sale and the land involved, including maps and current appraisal, may be reviewed during normal business hours between 7:45 a.m. and 4:30 p.m. at the Farmington Field Office at the above address.

FOR FURTHER INFORMATION CONTACT: Albert M. Gonzales, Realty Specialist, (505) 599-6334 or via e-mail at Albert_Gonzales@blm.gov.

SUPPLEMENTARY INFORMATION: The following public land is proposed for competitive sale in accordance with Section 203 of FLPMA (43 U.S.C. 1713):

New Mexico Principal Meridian

T. 30 N., R. 11 W.,

Sec. 17, S½SE¼SE¼, S½N½SE¼SE¼, and N½NE¼SE¼SE¼;

Sec. 20, lot 1.

The area described contains 73.75 acres, more or less, in San Juan County.

The public land has been identified as suitable for disposal in the BLM's September 29, 2003, Farmington Resource Management Plan, as amended, and is not needed for any Federal purpose. The sale is consistent with current BLM planning for this area and would be in the public interest. The land meets the criteria for sale under 43 CFR 2710.0-3(a)(3), because its location and other characteristics make it difficult and uneconomic to manage as part of the public lands and is not suitable for management by another Federal department or agency. The land is intermingled with private land. This land contains no other known public values. The land has not been identified for transfer to the State or any other local government or nonprofit organization. The land is adjacent to commercially developed private land and is suitable for similar uses. The parcel will be offered through competitive sale procedures pursuant to 43 CFR 2711.3-1.

On September 10, 2010, the above described land will be segregated from appropriation under the public land laws, including the mining laws, except the sale provisions of the FLPMA. Until completion of the sale, or termination of the segregation, the BLM will no longer accept land use applications affecting the identified public land, except applications for the amendment of previously filed right-of-way applications or existing authorizations to increase the term of the grants in accordance with 43 CFR 2802.15. The segregation will terminate upon issuance of a patent, publication in the Federal Register of a termination of the segregation, or September 10, 2012, whichever occurs first, unless extended by the BLM State Director in accordance with 43 CFR 2711.1-2 (d) prior to the termination dates. The land will not be sold until at least 60 days after the date of publication of this notice in the Federal Register. In the event of a sale, conveyance will be made of surface interest only; the BLM intends to retain all mineral rights. Any patent issued will contain the following reservations, covenants, terms and conditions:

1. All minerals, including coal, will be reserved to the United States with the right to prospect for or mine, and remove the minerals;

2. The land will be conveyed with a reservation of right-of-way to the United States for ditches and canals constructed by authority of the United States under the Act of August 30, 1890 (43 U.S.C. 945);

3. The land will also be conveyed subject to the following valid existing rights:

(a) Oil and Gas Lease NMSF 078402 and NMSF 078402A leased to Burlington Resources Oil and Gas Company;

(b) Right-of-Way Grant NMNM 92866 and NMNM 109478 for road purposes, granted to Burlington Resources Oil and Gas Company;

(c) Right-of-Way Grant NMNM 28540 for water pipeline, granted to Southside Water Users;

(d) Right-of-Way Grant NMNM 68504, NMNM 011405, and NMNM 68504, for gas pipeline purposes, granted to Enterprise Field Services, LLC;

(e) Right-of-Way Grant NMNM 80795 for electrical power line purposes, granted to the City of Farmington;

(f) Right-of-Way Grants NMNM 107746, NMNM 112113, NMNM 010871, and NMNM 013690 for gas pipeline purposes, granted to Enterprise Field Services;

(g) Oil and Gas Communitization Agreements NMNM 73491, NMNM 87127, NMNM 104908, NMNM 104910, and NMNM 108260, Burlington Resources Oil and Gas Company; and

(h) Oil and Gas Communitization Agreements NMNM 73723 and NMNM 112525, Operator, Roddy Production Company, LLC.

The right-of-way holders will have the option of conversion to easement opportunities. The land conveyance will be subject to the above modifications.

4. No warranty of any kind, express or implied, is given by the United States as to the title, physical condition, or potential uses of the lands proposed for sale; and the conveyance of any parcel will not be on a contingency basis. To the extent required by law, all such parcels are subject to the requirements of Section 120(h) of the Comprehensive Environmental Response, Compensation, and Liability Act (CERCLA), as amended (42 U.S.C. 9620(h)).

5. An appropriate indemnification clause protecting the United States from claims arising out of the purchaser's use, occupancy, or operations on the patented lands. Interested bidders are advised to obtain an Invitation Form Bids (IFB) from the BLM Farmington Field Office at the address above or by calling (505) 599-8900. Interested bidders must follow the instructions in the IFB to participate in the bidding process. Sealed bids must be for not less than the federally approved fair market value. Each sealed bid must include a certified check, money order, bank draft, or cashier's check made payable in U.S. dollars to the order of the Bureau of Land Management, for 10 percent of the amount of the bid. Bidders who have properly submitted sealed bids will have the opportunity to submit supplemental written bids in a silent auction at the BLM Farmington Field Office on November 15, 2010. Interested bidders wishing to submit a supplemental bid for a parcel must have properly submitted a sealed bid for the parcel and be present at the silent auction. The first supplemental bid for the parcel in the silent auction must be at least $2,000 more than the highest sealed bid accepted by the BLM and each subsequent supplemental bid must be at least $2,000 more than the previous bid. The BLM reserves the right to increase the required bid increment at any time. The highest supplemental bid submitted during the silent auction will be declared the high bid and the high bidder must immediately submit an additional payment to the BLM which, when added to the bid deposit submitted with the bidders sealed bid, equals at least 20 percent of the amount of the bid. If no supplemental bids are submitted for the parcel during the silent auction, the highest sealed bid for the parcel will be declared the high bid and the high bidder will receive written notice. If no supplemental bids are submitted for the parcel during the silent auction and more than one sealed bid is submitted for the same high bid amount, the high bidders will be notified and allowed to submit additional sealed bids. The highest qualifying bid for any parcel will be declared the high bid and the high bidder will receive written notice. The remainder of the full bid price for the parcel must be paid within 180 calendar days of the sale date in the form of a certified check, money order, bank draft, or cashier's check made payable in U.S. dollars to the Bureau of Land Management. Personal checks will not be accepted. Failure to pay the full price within the 180 days will disqualify the apparent high bidder and cause the entire bid deposit to be forfeited to the BLM. The BLM will return checks submitted by unsuccessful bidders by U.S. mail or in person on the day of the sale.

The BLM may accept or reject any or all offers, or withdraw the land or interest therein from sale, if, in the opinion of the BLM authorized officer, consummation of the sale would not be fully consistent with FLPMA or other applicable law or is determined to not be in the public interest. Under Federal law, the public lands may only be conveyed to U.S. citizens 18 years of age or older, a corporation subject to the laws of any State or of the United States, a State, State instrumentality, or political subdivision authorized to hold property, or an entity legally capable of conveying and holding lands under the laws of the State of New Mexico. Certification of qualifications, including citizenship or corporation or partnership, must be provided to the BLM prior to conveyance.

Additional Information: If not sold, the lands described in this Notice of Realty Action may be identified for sale later without further legal notice and may be offered for sale by sealed bid, internet auction, or oral auction. It is the buyer's responsibility to be aware of all applicable local government policies, laws, and regulations that would affect the subject lands, including any required dedication of lands for public uses. It is also the buyer's responsibility to be aware of existing or projected uses of nearby properties. When conveyed out of Federal ownership, the land will be subject to any applicable reviews and approvals by the respective unit of local government for proposed future uses, and any review and approvals will be responsibility of the buyer. Any land lacking access from a public road or highway will be conveyed as such, and future access acquisition will be the responsibility of the buyer. Information concerning the sale including the reservations, sale procedures, and conditions, CERCLA and other environmental documents will be available for review at the BLM Farmington Field Office. The general public and interested parties may submit comments regarding the proposed sale to the attention of the BLM Farmington Field Manager on or before October 25, 2010. Any adverse comments regarding the proposed sale will be reviewed by the BLM New Mexico State Director or other authorized official of the Department of the Interior, who may sustain, vacate, or modify this realty action in whole or in part. Before including your address, phone number, e-mail address, or other personal identifying information in your comment, you should be aware that your entire comment—including your personal identifying information—may be made publicly available at any time. While you can ask us in your comment to withhold your personal identifying information from public review, we cannot guarantee that we will be able to do so.

Authority: 43 CFR 2711.1-2.

William Merhege,
Acting Deputy State Director, Resources.

[FR Doc. 2010-22612 Filed 9-9-10; 8:45 am]

BILLING CODE 4310-VB-P